DEPARTMENT OF THE TREASURY

Treasury Advisory Committee on Commercial Operations of the U.S. Customs Service; Meeting

AGENCY: Department of Offices, Treasury.

ACTION: Notice of meeting.

SUMMARY: This notice announces the date and time for the next meeting and the provisional agenda for consideration by the Committee.

DATES: The next meeting of the Treasury Advisory Committee on Commercial Operations of the U.S. Customs Service will be held on Friday, July 21, 2000 at 9 a.m. at 740 15th Street, NW., Suite 700, Washington, DC. The duration of the meeting will be approximately three hours.

FOR FURTHER INFORMATION CONTACT: John P. Simpson, Deputy Assistant Secretary, Office of Regulatory, Tariff and Trade, Office of the Under Secretary (Enforcement), Room 4308, Department of the Treasury, 1500 Pennsylvania Avenue, NW, Washington, DC 20220 (ATTN: COAC)—Tel.: (202) 622-0230. Final meeting details, including the meeting time, location, and agency, can be confirmed by contacting the above number one week prior to the meeting date.

AGENDA: At the July 21, 2000 session, a special meeting of the Advisory Committee, the Committee is expected to pursue the following agenda. The agenda may be modified prior to the meeting.

1. Report on Customs Budget for Fiscal Years 2001 and 2002

2. Report from Subcommittee on Merchandise Processing Fee

3. Discussion of the Full Implementation of Mod Act of 1993

4. Brief Update from the Office of Regulations & Rulings Subcommittee

5. Interface Discussion

6. Discussion of the 24/7 U.S. Customs Service at Land Borders

SUPPLEMENTARY INFORMATION: The meeting is open to the public; however, participation in the Committee's deliberations is limited to Committee members and Customs and Treasury Department staff. A person other than an Advisory Committee member who wishes to attend the meeting should give advance notice by contacting Theresa Manning at (202) 622-0220 or Helen Belt at (202) 622-0230, no later than July 13, 2000.

Dated: June 28, 2000.
John P. Simpson,
Deputy Assistant Secretary (Regulatory, Tariff and Trade Enforcement).

[FR Doc. 00-16968 Filed 7-5-00; 8:45 am]

BILLING CODE 4810-25-M